DEPARTMENT OF DEFENSE

Office of the Secretary

[Docket ID DOD-2020-OS-0053]

Proposed Collection; Comment Request

AGENCY: Office of the Under Secretary of Defense for Personnel and Readiness, Department of Defense (DoD).

ACTION: Information collection notice.

SUMMARY: In compliance with the Paperwork Reduction Act of 1995, the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 28, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Ms. Angela James, Office of Information Management, DoD, at whs.mc-alex.esd.mbx.dd-dod-information-collections@mail.mil or call 571-372-7574.

SUPPLEMENTARY INFORMATION: Title; Associated Form; and OMB Number: Application for Review by the Physical Disability Board of Review; DD Form 294; OMB Control Number 0704-0453.

Needs and Uses: The Fiscal Year 2008 National Defense Authorization Act amended Title 10, United States Code by adding Section 1554a. That provision of law directs the Secretary of Defense to establish a board of review to review the disability determinations of individuals who were separated from the armed forces during the period beginning on September 11, 2001 and ending on December 31, 2009 due to unfitness for duty due to a medical condition with a disability rating of 20 percent disabled or less; and were found to be not eligible for retirement. On June 27, 2008, The Department of Defense published DODI 6040.44, which provides the guidance for this process.

The DD Form 294, “Application for Review by the Physical Disability Board of Review (PDBR) of the Rating Awarded Accompanying a Medical Separation from the Armed Forces of the United States” is designed to appropriately collect the information necessary to retrieve the medical separation and the Department of Veterans Affairs records and correct military personnel and pay records.

Affected Public: Individuals and Household.

Annual Burden Hours: 180.

Number of Respondents: 240.

Responses per Respondent: 1.

Annual Responses: 240.

Average Burden per Response: 45 minutes.

Frequency: On occasion.

Dated: May 26, 2020.
Aaron T. Siegel,
Alternate OSD Federal Register Liaison Officer, Department of Defense.

[FR Doc. 2020-11545 Filed 5-28-20; 8:45 am]

BILLING CODE 5001-06-P